DEPARTMENT OF DEFENSE

Department of the Army, Corps of Engineers

Elizabeth River and Southern Branch Navigation Improvements NEPA Scoping Meeting and Public Comment Period

AGENCY: Department of the Army, U.S. Army Corps of Engineers, DoD.

ACTION: NEPA scoping meeting and public comment period.

SUMMARY: Pursuant to the requirements of the National Environmental Policy Act of 1969, as amended (NEPA), 42 U.S.C. 4321-4370, as implemented by the Council on Environmental Quality Regulations (40 CFR parts 1500-1508), the U.S. Army Corps of Engineers (USACE) plans to prepare an Environmental Assessment (EA) to evaluate environmental impacts from reasonable project alternatives and to determine the potential for significant impacts related to improvements to the Elizabeth River and Southern Branch Channels. If the USACE determines that there is a potential for a significant environmental impact, the USACE will issue a Notice of Intent to prepare an Environmental Impact Statement in the Federal Register.

Federal, state, and local agencies, Indian tribes, and the public are invited to provide scoping comments to identify issues, alternatives, and potentially significant effects to be considered in the analysis.

DATES: Scoping comments may be submitted until October 30, 2015.

ADDRESSES: The public is invited to submit NEPA scoping comments at the meeting and/or submit comments to David Schulte, USACE, via email/mail/telephone at David.M.Schulte@usace.army.mil/ATTN: David Schulte, Department of the Army, U.S. Army Corps of Engineers, Norfolk District, Fort Norfolk, 803 Front St., Norfolk, VA 23510/(757)201-7007. The project title and the commenter's contact information should be included with submitted comments.

FOR FURTHER INFORMATION CONTACT: David Schulte, (757) 201-7007.

SUPPLEMENTARY INFORMATION: The USACE is the lead federal agency for this study and the Commonwealth of Virginia acting through its Agent, the Virginia Port Authority, will act as the non-federal sponsor for the study. The Elizabeth River and Southern Branch Channels are federally-improved channels extending from the Norfolk Harbor Channels extent near Lambert's Point to the Southern Branch of the Elizabeth River. The Elizabeth River is a tributary of the James River, and is located near the confluence of the James River along its southern bank and the Chesapeake Bay mainstem. The land area surrounding the Elizabeth River and Southern Branch Channels includes the cities of Chesapeake, Norfolk, and Portsmouth.

The study is anticipated to include an evaluation of a range of dimensions for the Elizabeth River and Southern Branch Navigation Channels. Specific planning objectives for the Elizabeth River and Southern Branch Navigation Improvements General Reevaluation Study include:

• Determine if commercial navigation benefits exist to justify additional deepening and potentially widening of the Elizabeth River and Southern Branch Channels;

• Examine the impact of increased channel system dimensions on the capacity of existing dredged material placement sites;

• Evaluate the impact of increased channel system dimensions on shoaling rates for existing and advance harbor maintenance needs;

• Examine the hydrodynamic and environmental effects of increased dimensions of the channel system and effects on adjacent shorelines;

• Identify environmental and cultural resources in the study area and potential impacts from increased channel system dimensions to those resources; and

• Identify the National Economic Development plan which most efficiently and safely accommodates existing and larger commercial ship and barge traffic while avoiding or minimizing impacts to environmental resources.

Scoping/Public Involvement. A public NEPA scoping meeting will be held on September 24, 2015 from 6:00 p.m.—8:00 p.m. The NEPA scoping meeting will be held at the Half Moone Cruise and Celebration Center, Virginia Room, 1 Waterside Drive, Norfolk, VA 23510.

Brenda S. Bowen,
Army Federal Register Liaison Officer.

[FR Doc. 2015-24092 Filed 9-21-15; 8:45 am]

BILLING CODE 3720-58-P